DEPARTMENT OF COMMERCE

International Trade Administration

[A-549-822]

Certain Frozen Warmwater Shrimp from Thailand: Final Results and Partial Rescission of Antidumping Duty Administrative Review

AGENCY: Import Administration, International Trade Administration, Department of Commerce.

SUMMARY: On March 15, 2010, the Department of Commerce (the Department) published the preliminary results of the administrative review of the antidumping duty order on certain frozen warmwater shrimp (shrimp) from Thailand. This review covers 165 producers/exporters of the subject merchandise to the United States.¹ The POR is February 1, 2008, through January 31, 2009.²

¹ This figure excludes twenty companies for which we are rescinding the review due to the fact that they made no shipments of the subject merchandise during the period of review (POR). See “Partial Rescission of Review” section, below.

² Because of the partial revocation of the antidumping duty order, effective January 16, 2009, the POR is February 1, 2008, through January 15, 2009, for Thai I-Mei Frozen Foods Co., Ltd. (Thai I-Mei) and the Rubicon Group. See Implementation of the Findings of the WTO Panel in United States—Antidumping Measure on Shrimp from Thailand: Notice of Determination Under Section 129 of the Uruguay Round Agreements Act and Partial Revocation of the Antidumping Duty Order on Frozen Warmwater Shrimp from Thailand, 74 FR 5638, 5639 (January 30, 2009) (Section 129 Determination); Certain Frozen Warmwater Shrimp from Thailand: Final Results of Antidumping Duty Changed Circumstances Review and Notice of Revocation in Part, 74 FR 52452 (October 13, 2009).

Based on our analysis of the comments received, we have made certain changes in the margin calculations for Marine Gold Products Limited (Marine Gold), Pakfood Public Company Limited and its affiliates, Asia Pacific (Thailand) Company, Limited, Chaophraya Cold Storage Company Limited, Okeanos Company Limited, Okeanos Food Company, Limited, and Takzin Samut Company, Limited (collectively, Pakfood), and Andaman Seafood Co., Ltd. (Andaman), Wales & Co. Universe Limited, Chanthaburi Frozen Food Co., Ltd. (CFF), Chanthaburi Seafoods Co., Ltd. (CSF), Intersia Foods Co., Ltd. (formerly Y2K Frozen Foods Co., Ltd.), Phatthana Seafood Co., Ltd. (PTN), Phatthana Frozen Food Co., Ltd. (PFF), S.C.C. Frozen Seafood Co., Ltd., Thailand Fishery Cold Storage Public Co., Ltd. (TFC), Thai International Seafoods Co., Ltd. (TIS), and Sea Wealth Frozen Food Co., Ltd. (Sea Wealth) (collectively, the Rubicon Group). The final weighted-average dumping margins for the reviewed firms are listed below in the section entitled “Final Results of Review.”

FOR FURTHER INFORMATION CONTACT: Kate Johnson or David Goldberger, AD/CVD Operations, Office 2, Import Administration, International Trade Administration, U.S. Department of Commerce, 14th Street and Constitution Avenue, NW., Washington, DC 20230; telephone: (202) 482-4929 or (202) 482-4136, respectively.

SUPPLEMENTARY INFORMATION:

Background

This review covers 165 producers/exporters. The respondents which the Department selected for individual review are Marine Gold, Pakfood, and the Rubicon Group. The respondents which were not selected for individual review are listed in the “Final Results of Review” section of this notice.

On March 15, 2010, the Department published in the Federal Register the preliminary results of the 2008-2009 administrative review of the antidumping duty order on shrimp from Thailand. See Certain Frozen Warmwater Shrimp from Thailand: Preliminary Results of Antidumping Duty Administrative Review and Final Results of Partial Rescission of Antidumping Duty Administrative Review, 75 FR 12188 (March 15, 2010) (Preliminary Results).

We invited parties to comment on the preliminary results. In April 2010, we received case briefs from the domestic producers of the subject merchandise (i.e., the Ad Hoc Shrimp Trade Action Committee), the respondents selected for individual review, Marine Gold, Pakfood, and the Rubicon Group, the American Shrimp Processors Association and the Louisiana Shrimp Association (hereafter, the domestic processors), and Xian-Ning Seafood Co., Ltd., Ongkorn Cold Storage Co., Ltd., Kongphop Frozen Foods Co., Ltd., May Ao Foods Co., Ltd., and May Ao Co., Ltd., who are producers/exporters that were not selected for individual review. Rebuttal briefs were received from the domestic producers, the domestic processors, Marine Gold, Pakfood, and the Rubicon Group. On April 14, 2010, Marine Gold requested that a public hearing be held in this proceeding. On April 20, 2010, Marine Gold withdrew its hearing request.

In June 2010 we extended the deadline for the final results, due no later than September 13, 2010. See Certain Frozen Warmwater Shrimp from Thailand: Notice of Extension of Time Limit for the Final Results of the 2008-2009 Administrative Review, 75 FR 34976 (June 21, 2010).

The Department has conducted this administrative review in accordance with section 751 of the Tariff Act of 1930, as amended (the Act).

Scope of the Order

The scope of this order includes certain frozen warmwater shrimp and prawns, whether wild-caught (ocean harvested) or farm-raised (produced by aquaculture), head-on or head-off, shell-on or peeled, tail-on or tail-off,³ deveined or not deveined, cooked or raw, or otherwise processed in frozen form.

³ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Period of Review

The POR is February 1, 2008, through January 31, 2009. See Footnote 2.

Partial Rescission of Review

In the Preliminary Results, we stated our intention to rescind the review with respect to the following companies, which reported to the Department that they had no shipments during the POR:

(1) American Commercial Transport, Inc.

(2) Ampai Frozen Food Co., Ltd.

(3) Euro-Asian International Seafoods Co., Ltd.

(4) F.A.I.T. Corporation Limited

(5) Far East Cold Storage, Ltd.

(6) Grobest Frozen Foods Co., Ltd.

(7) Inter-Oceanic Resources Co., Ltd.

(8) Leo Transport Corporation, Ltd.

(9) Lucky Unions Foods Co., Ltd.

(10) MKF Interfood (2004) Co., Ltd.

(11) Siam Canadian Foods Co., Ltd.

(12) Siam Ocean Frozen Foods Co., Ltd.

(13) Sky Fresh Co., Ltd.

(14) Songkla Canning (PCL)

(15) Suree Interfoods Co., Ltd.

(16) Thai Excel Foods Co., Ltd.

(17) Thai Union Manufacturing Co., Ltd.

(18) Thai Yoo Ltd., Part.

(19) V. Thai Food Product Co., Ltd.

(20) Wann Fisheries Co., Ltd.

Since the Preliminary Results we have received no comments regarding our stated intention to rescind the review for each of the firms listed above. Therefore, the Department is rescinding this review with respect to the 20 firms listed above.

Cost of Production

As discussed in the Preliminary Results, we conducted an investigation to determine whether Marine Gold, Pakfood, and the Rubicon Group made comparison market sales of the foreign like product during the POR at prices below their costs of production (COP) within the meaning of section 773(b) of the Act. For all three respondents, we performed the cost test for these final results following the same methodology as in the Preliminary Results.

We found 20 percent or more of each respondent's sales of a given product during the reporting period were at prices less than the weighted-average COP for this period. Thus, we determined that these below-cost sales were made in “substantial quantities” within an extended period of time and at prices which did not permit the recovery of all costs within a reasonable period of time in the normal course of trade. See sections 773(b)(1)-(2) of the Act.

Therefore, for purposes of these final results, we continue to find that Marine Gold, Pakfood, and the Rubicon Group made below-cost sales not in the ordinary course of trade. Consequently, we disregarded these sales for each respondent and used the remaining sales as the basis for determining normal value pursuant to section 773(b)(1) of the Act. For those U.S. sales of subject merchandise for which there were no comparison market sales in the ordinary course of trade, we compared constructed export prices or export prices, as appropriate, to constructed value in accordance with section 773(a)(4) of the Act.

Analysis of Comments Received

All issues raised in the case briefs by parties to this administrative review are listed in the Appendix to this notice and addressed in the Issues and Decision Memorandum (the Decision Memo), which is adopted by this notice. Parties can find a complete discussion of all issues raised in this review and the corresponding recommendations in this public memorandum, which is on file in the Central Records Unit, Room 1117, of the main Department building.

In addition, a complete version of the Decision Memo can be accessed directly on the Web at http://ia.ita.doc.gov/frn/. The paper copy and electronic version of the Decision Memo are identical in content.

Changes Since the Preliminary Results

Based on our analysis of the comments received, we have made certain changes in the margin calculations for Marine Gold, Pakfood, and the Rubicon Group. These changes are discussed in the relevant sections of the Decision Memo.

Final Results of Review

We determine that weighted-average dumping margins exist for the respondents for the period February 1, 2008, through January 31, 2009, as follows:

Manufacturer/exporter | Percent margin
Marine Gold Products Limited | 1.63
Pakfood Public Company Limited/Asia Pacific (Thailand) Company Limited/Chaophraya Cold Storage Company Limited/Okeanos Company Limited/Okeanos Food Company, Limited/and Takzin Samut Company Limited (collectively, Pakfood) | 1.11
Andaman Seafood Co., Ltd./Chanthaburi Frozen Food Co., Ltd./Chanthaburi Seafoods Co., Ltd./Intersia Foods Co., Ltd. (formerly Y2K Frozen Foods Co., Ltd.)/Phatthana Seafood Co., Ltd./Phatthana Frozen Food Co., Ltd./S.C.C. Frozen Seafood Co., Ltd./Sea Wealth Frozen Food Co. Ltd./Thailand Fishery Cold Storage Public Co., Ltd./Thai International Seafoods Co., Ltd./Wales & Co. Universe Limited (collectively, the Rubicon Group) | 4.39

The review-specific average rate applicable to the following companies is 2.61 percent: ⁴

⁴ This rate is based on the weighted average of the margins calculated for those companies selected for individual examination, excluding de minimis margins or margins based entirely on facts available, as discussed below.

Manufacturer/Exporter

A. Wattanachai Frozen Products Co., Ltd.

A.S. Intermarine Foods Co., Ltd.

ACU Transport Co., Ltd.

Anglo-Siam Seafoods Co., Ltd.

Apex Maritime (Thailand) Co., Ltd.

Apitoon Enterprise Industry Co., Ltd.

Applied DB Ind.

Asian Seafood Coldstorage (Sriracha)

Asian Seafoods Coldstorage Public Co., Ltd.

Asian Seafoods Coldstorage (Suratthani) Co., Limited

Asian Seafoods Coldstorage (Suratthani) Co.

Assoc. Commercial Systems

B.S.A. Food Products Co., Ltd.

Bangkok Dehydrated Marine Product Co., Ltd.

Bright Sea Co., Ltd.

C.P. Merchandising Co., Ltd.

C.P. Mdse

C.P. Retailing and Marketing Co., Ltd.

C.Y. Frozen Food Co., Ltd.

Chaivaree Marine Products Co., Ltd.

Chaiwarut Co., Ltd.

Charoen Pokphand Foods Public Co., Ltd.

Chonburi LC

Chue Eie Mong Eak Ltd. Part.

Core Seafood Processing Co., Ltd.

Crystal Frozen Foods Co., Ltd. and/or Crystal Seafood

Daedong (Thailand) Co. Ltd.

Daiei Taigen (Thailand) Co., Ltd.

Daiho (Thailand) Co., Ltd.

Dynamic Intertransport Co., Ltd.

Earth Food Manufacturing Co., Ltd.

Findus (Thailand) Ltd.

Fortune Frozen Foods (Thailand) Co., Ltd.

Frozen Marine Products Co., Ltd.

GSE Lining Technology Co., Ltd.

Gallant Ocean (Thailand) Co., Ltd.

Gallant Seafoods Corporation

Global Maharaja Co., Ltd.

Golden Sea Frozen Foods

Golden Sea Frozen Foods Co., Ltd.

Good Fortune Cold Storage Co., Ltd.

Good Luck Product Co., Ltd.

Gulf Coast Crab Intl.

H.A.M. International Co., Ltd.

Haitai Seafood Co., Ltd.

Handy International (Thailand) Co., Ltd.

Heng Seafood Limited Partnership

Heritrade Co., Ltd.

HIC (Thailand) Co., Ltd.

High Way International Co., Ltd.

I.T. Foods Industries Co., Ltd.

Inter-Pacific Marine Products Co., Ltd.

K Fresh

K.D. Trading Co., Ltd.

K.F. Foods

K.L. Cold Storage Co., Ltd.

K & U Enterprise Co., Ltd.

Kiang Huat Sea Gull Trading Frozen Food Public Co., Ltd.

Kingfisher Holdings Ltd.

Kibun Trdg

Klang Co., Ltd.

Kitchens of the Ocean (Thailand) Ltd.

Kongphop Frozen Foods Co., Ltd.

Kosamut Frozen Foods Co., Ltd.

Lee Heng Seafood Co., Ltd.

Li-Thai Frozen Foods Co., Ltd.

Maersk Line

Magnate & Syndicate Co., Ltd.

Mahachai Food Processing Co., Ltd.

May Ao Co., Ltd.

May Ao Foods Co., Ltd.

Merit Asia Foodstuff Co., Ltd.

Merkur Co., Ltd.

Ming Chao Ind Thailand

N&N Foods Co., Ltd.

Namprik Maesri Ltd. Part.

Narong Seafood Co., Ltd.

Nongmon SMJ Products

N.R. Instant Produce Co., Ltd.

Ongkorn Cold Storage Co., Ltd.

Pacific Queen Co., Ltd.

Penta Impex Co., Ltd.

Pinwood Nineteen Ninety Nine

Piti Seafoods Co., Ltd.

Premier Frozen Products Co., Ltd.

Preserved Food Specialty Co., Ltd.

Queen Marine Food Co., Ltd.

Rayong Coldstorage (1987) Co., Ltd.

S&D Marine Products Co., Ltd.

S&P Aquarium

S&P Syndicate Public Company Ltd.

S. Chaivaree Cold Storage Co., Ltd.

SCT Co., Ltd.

S. Khonkaen Food Industry Public Co., Ltd. and/or S. Khonkaen Food Ind. Public

SMP Food Product Co., Ltd.

Samui Foods Company Limited

Sea Bonanza Food Co., Ltd.

SEA NT'L CO., LTD.

Seafoods Enterprise Co., Ltd.

Seafresh Fisheries

Seafresh Industry Public Co., Ltd.

Search & Serve

Shianlin Bangkok Co., Ltd.

Siam Food Supply Co., Ltd.

Siam Intersea Co., Ltd.

Siam Marine Products Co. Ltd.

Siam Union Frozen Foods

Siamchai International Food Co., Ltd.

Smile Heart Foods Co. Ltd.

Southport Seafood

Star Frozen Foods Co., Ltd.

STC Foodpak Ltd.

Suntechthai Intertrading Co., Ltd.

Surapon Nichirei Foods Co., Ltd.

Surapon Seafoods Public Co., Ltd./ Surapon Foods Public Co., Ltd.

Surapon Seafood

Surat Seafoods Co., Ltd.

Suratthani Marine Products Co., Ltd.

T.S.F. Seafood Co., Ltd.

Tanaya International Co., Ltd.

Tanaya Intl.

Teppitak Seafood Co., Ltd.

Tey Seng Cold Storage Co., Ltd.

Tep Kinsho Foods Co., Ltd.

Thai-Ger Marine Co., Ltd.

Thai Agri Foods Public Co., Ltd.

Thai I-Mei Frozen Foods Co., Ltd.

Thai Mahachai Seafood Products Co., Ltd.

Thai Ocean Venture Co., Ltd.

Thai Patana Frozen

Thai Prawn Culture Center Co., Ltd.

Thai Royal Frozen Food Co. Ltd.

Thai Spring Fish Co., Ltd.

Thai Union Frozen Products Public Co., Ltd.

Thai Union Seafood Co., Ltd.

Thai World Imports & Exports

The Siam Union Frozen Foods Co., Ltd.

The Union Frozen Products Co., Ltd.

Trang Seafood Products Public Co., Ltd.

Transamut Food Co., Ltd.

Tung Lieng Trdg.

United Cold Storage Co., Ltd.

Xian-Ning Seafood Co., Ltd.

Yeenin Frozen Foods Co., Ltd.

YHS Singapore Pte.

ZAFCO TRDG.

Assessment

The Department shall determine, and CBP shall assess, antidumping duties on all appropriate entries.

For those sales where the respondents reported the entered value of their U.S. sales, we have calculated importer-specific ad valorem duty assessment rates based on the ratio of the total amount of antidumping duties calculated for the examined sales to the total entered value of the examined sales for that importer. For those sales where the respondents did not report the entered value of their U.S. sales, we have calculated importer-specific or customer-specific per-unit duty assessment rates by aggregating the total amount of antidumping duties calculated for the examined sales and dividing this amount by the total quantity of those sales. With respect to the respondents' U.S. sales of shrimp with sauce, for which no entered value was reported, we have included the total quantity of the merchandise with sauce in the denominator of the calculation of the importer-specific or customer-specific rate because CBP will apply the per-unit duty rate to the total quantity of merchandise entered, including the sauce weight. To determine whether the duty assessment rates are de minimis, in accordance with the requirement set forth in 19 CFR 351.106(c)(2), we have calculated importer-specific or customer-specific ad valorem ratios based on the estimated entered value.

For the companies which were not selected for individual review, we have calculated an assessment rate based on the weighted average of the cash deposit rates calculated for the companies selected for individual review excluding any which are de minimis or determined entirely on facts available. See Certain Frozen Warmwater Shrimp From Thailand: Final Results and Partial Rescission of Antidumping Duty Administrative Review, 74 FR 47551 (September 16, 2009).

Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003. See Antidumping and Countervailing Duty Proceedings: Assessment of Antidumping Duties, 68 FR 23954 (May 6, 2003) (Assessment Policy Notice). This clarification will apply to entries of subject merchandise during the POR produced by companies included in these final results of review for which the reviewed companies did not know that the merchandise they sold to the intermediary (e.g., a reseller, trading company, or exporter) was destined for the United States. In such instances, we will instruct CBP to liquidate unreviewed entries at the all-others rate established in the LTFV investigation if there is no rate for the intermediary involved in the transaction. See Assessment Policy Notice for a full discussion of this clarification.

Cash Deposit Requirements

The following cash deposit requirements will be effective for all shipments of the subject merchandise entered, or withdrawn from warehouse, for consumption on or after the publication date of the final results of this administrative review, as provided by section 751(a)(2)(C) of the Act: (1) The cash deposit rates for each specific company listed above ⁵ will be the rates shown above, except if the rate is less than 0.50 percent, and therefore, de minimis within the meaning of 19 CFR 351.106(c)(1), in which case the cash deposit rate will be zero; (2) for previously reviewed or investigated companies not participating in this review, the cash deposit rate will continue to be the company-specific rate published for the most recent period; (3) if the exporter is not a firm covered in this review, a prior review, or the original LTFV investigation, but the manufacturer is, the cash deposit rate will be the rate established for the most recent period for the manufacturer of the merchandise; and (4) the cash deposit rate for all other manufacturers or exporters will be 5.34 percent, the all-others rate made effective by the Section 129 Determination. These requirements, when imposed, shall remain in effect until further notice.

⁵ Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (January 30, 2009) (Section 129 Determination). These producers/exporters are as follows: Andaman Seafood Co., Ltd., Chanthaburi Frozen Food Co., Ltd., Chanthaburi Seafoods Co., Ltd., Intersia Foods Co., Ltd. (formerly Y2K Frozen Foods Co., Ltd.), Phatthana Seafood Co., Ltd., S.C.C. Frozen Seafood Co., Ltd., Thailand Fishery Cold Storage Public Co., Ltd., Thai International Seafoods Co., Ltd., Wales & Co. Universe Limited, and Thai I-Mei Frozen Foods Co., Ltd.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these final results of review in accordance with sections 751(a)(1) and 777(i)(1) of the Act.

Dated: August 31, 2010.
Ronald K. Lorentzen,
Deputy Assistant Secretary for Import Administration.

Appendix—Issues in Decision Memo

General Comments:

Comment 1: Offsetting of Negative Margins

Comment 2: Using CBP Data for Respondent Selection

Comment 3: Date of Sale Methodology

Comment 4: Calculation of the Review-Specific Average Rate

Comment 5: Use of Forward Exchange Rates

Company-Specific Comments:

Marine Gold

Comment 6: Revision of Cooked Form Model Matching Product Characteristic

Comment 7: Home Market Viability

Comment 8: Arm's-Length Nature of Thai Warehousing Expenses

Pakfood

Comment 9: Home Market Billing Adjustments

Comment 10: Adjusting Gross Unit Prices to Account for Glaze

Comment 11: Treatment of Expenses Related to Cancelled Sale

Comment 12: Reporting of “Presentation” Product Characteristic

Comment 13: Using Period-Specific Costs in the Sales-Below-COP Test

The Rubicon Group

Comment 14: Assessment of Antidumping Duties on Rubicon Group Imports

Comment 15: CEP Offset

Comment 16: The Rubicon Group's Sales Reconciliations

Comment 17: Reporting of Gross Unit Price Exclusive of Sauce Value

Comment 18: Rebates Claimed in the Comparison Market

Comment 19: Rebates Claimed in the U.S. Market

Comment 20: U.S. Warehousing Expenses

Comment 21: U.S. Indirect Selling Expenses

Comment 22: Major Input Rule for Shrimp Costs

Comment 23: Inclusion of Certain Non-Operational Expenses in General and Administrative Ratio

[FR Doc. 2010-22376 Filed 9-8-10; 8:45 am]

BILLING CODE 3510-DS-P